DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2012 Survey of Income and Program Participation Computer Audio Recorded Interviewing Field Test.

OMB Control Number: None.

Form Number(s): SIPP-CARI 2012 DR 105(L)—Director's Letter English; SIPP-CARI 2012 DR 105(L)(SP) 2012—Director's Letter Spanish; SIPP-EHC 4006A Brochure “SIPP You Represent Your Nation;” SIPP/CARI Automated Instrument.

Type of Request: New collection.

Burden Hours: 1,890.

Number of Respondents: 1,890.

Average Hours per Response: 1 hour.

Needs and Uses: The U.S. Census Bureau requests authorization from the Office of Management and Budget (OMB) to conduct a Computer Audio Recorded Interviewing (CARI) technology field test using the 2012 Survey of Income and Program Participation Event History Calendar (SIPP-EHC) Field Test questionnaire.

Computer Audio Recorded Interviewing is a data collection method that captures audio along with response data during computer-assisted personal and telephone interviews (CAPI & CATI). A portion of each interview is recorded unobtrusively, with the respondent's consent, and the sound file is returned with the response data to a central location. By reviewing the recorded portions of the interview, quality assurance (QA) analysts can evaluate the likelihood that the exchange between the field representative (FR) and respondent is authentic and follows critical survey protocol as defined by the sponsor and based on best practices.

The Census Bureau will conduct the SIPP CARI test using the 2012 SIPP-EHC automated instrument and computer-assisted personal interviewing (CAPI) in 6 of the 12 Regional Offices. The SIPP CARI questionnaire will have the recording capability in use during the interview. The only content change to the instrument is the addition of a consent question which will record the respondent's permission to audio record responses. Additionally, approximately 25 specific questions are programmed for recording for each person's interview.

This is the second CARI field test conducted by the Census Bureau. The first CARI field test was used to conduct behavior coding for the 2010 American Community Survey Content Test in late 2010. The Census Bureau is conducting this test to determine if the deployment of CARI will have any significant impact on response rates and item level responses. Previous tests for CARI have proven the capability of the technology. Other tests have also been conducted on non-voluntary surveys and proved promising. However, it is important for the Census Bureau to obtain information on the impact of this technology on data quality indicators for voluntary demographic surveys. If the test proves successful, this technology would be a major asset for all programs using computer assisted personal and telephone modes of data collection to assist in meeting quality objectives.

The 2012 SIPP CARI test will be conducted between May and June 2012. We will implement the CARI technology on a portion of the 2012 SIPP-EHC data collection instrument. This test will be conducted on a separate sample than that of the 2012 SIPP-EHC field test.

In addition to the actual recording capability, the CARI Interactive Data Access System has been developed as a monitoring system that allows for the analysis of audio and image files to be conducted immediately after completion and transmission of the interview. The system is an innovative, integrated, multifaceted monitoring system that features a configurable web-based interface for behavior-coding, quality assurance and coaching. The system assists in coding interviews for measuring question and interviewer performance and the interaction between interviewers and respondents.

The 2012 SIPP CARI field test instrument will be evaluated in several domains including field implementation issues and data quality vis-à-vis the SIPP 2011 and 2012 field test results. Household non-response rates and item non-response rates will be compared to the 2011 and 2012 SIPP tests. The primary focus will be to examine the impact recording has on the quality of data. In general, we will use the following methodology to evaluate the impact on data quality:

We will compare overall and item non response rates to parallel sample areas from the 2011 and 2012 SIPP evaluations. We will also recalculate and compare key estimates such as participation in Food Stamps, TANF, SSI, WIC, and Medicaid to parallel sample areas from the 2011 and 2012 SIPP evaluations. Tests of significance will be conducted for the differences in response rates and estimates and patterns of significance will be identified and analyzed further. In addition, paradata related to interview performance (length and non-response) by region, interviewer and household characteristics, and training performance will be measured to assist in the interpretation of the impact on data quality.

Results from the 2012 field test will be used to inform and make final decisions regarding the implementation of CARI as a part of the quality assurance strategy for the SIPP instrument for production beginning in 2014 as well as other reimbursable demographic surveys.

Affected Public: Individuals or households.

Frequency: One-time.

Respondent's Obligation: Voluntary.

Legal Authority: Title 13 U.S.C., Section 182.

OMB Desk Officer: Brian Harris-Kojetin, (202) 395-7314.

Copies of the above information collection proposal can be obtained by calling or writing Diana Hynek, Departmental Paperwork Clearance Officer, (202) 482-0266, Department of Commerce, Room 6616, 14th and Constitution Avenue NW., Washington, DC 20230 (or via the Internet at dhynek@doc.gov).

Written comments and recommendations for the proposed information collection should be sent within 30 days of publication of this notice to Brian Harris-Kojetin, OMB Desk Officer either by fax ((202) 395-7245) or email (bharrisk@omb.eop.gov).

Dated: November 29, 2011.
Glenna Mickelson,
Management Analyst, Office of the Chief Information Officer.

[FR Doc. 2011-31015 Filed 12-1-11; 8:45 am]

BILLING CODE 3510-07-P